DEPARTMENT OF TRANSPORTATION

Federal Aviation Administration

14 CFR Part 71

[Airspace Docket No. 00-ACE-12]

Amendment to Class E Airspace; Oelwein, IA; Correction

AGENCY: Federal Aviation Administration, DOT.

ACTION: Direct final rule; confirmation of effective date and correction.

SUMMARY: This document confirms the effective date of a direct final rule which revises the Class E airspace at Oelwein, IA, and corrects an error in the name of the Nondirectional Radio Beacon (NDB) as published in the Federal Register July 3, 2000 (65 FR 40990), Airspace Docket No. 00-ACE-12.

DATES: The direct final rule published at 65 FR 40990 is effective on 0901 UTC, November 30, 2000.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

On July 3, 2000, the FAA published in the Federal Register a direct final rule; request for comments which revises the Class E airspace at Oelwein, IA (FR document 00-16662, 65 FR 40990, Airspace Docket No. 00-ACE-12). An error was subsequently discovered that the Hampton NDB should be the Oelwein NDB. This action corrects that error. After careful review of all available information related to the subject presented above, the FAA has determined that air safety and the public interest require adoption of the rule. The FAA has determined that this correction will not change the meaning of the action nor add any additional burden on the public beyond that already published. This action corrects the error in the airspace designation and confirms the effective date to the direct final rule.

The FAA uses the direct final rulemaking procedure for a non-controversial rule where the FAA believes that there will be no adverse public comment. This direct final rule advised the public that no adverse comments were anticipated, and that unless a written adverse comment, or a written notice of intent to submit such an adverse comment, were received within the comment period, the regulation would become effective on November 30, 2000. No adverse comments were received, and thus this notice confirms that this direct final rule will become effective on that date.

Correction to the Direct Final Rule

Accordingly, pursuant to the authority delegated to me, the airspace designation for Oelwein Municipal Airport, as published in the Federal Register on July 3, 2000 (65 FR 40990), Federal Register Document 00-16662; page 40991, column two) is corrected as follows:

§ 71.1 [Corrected]

ACE IA E5 Oelwein, IA [Corrected]

On page 40991, in the second column, in the text header, line four, remove Hampton NDB and substitute Oelwein NDB.

Issued in Kansas City, MO, on September 5, 2000.
Herman J. Lyons, Jr.,
Manager, Air Traffic Division, Central Region.

[FR Doc. 00-23813 Filed 9-15-00; 8:45 am]

BILLING CODE 4910-13-M